DEPARTMENT OF ENERGY

Federal Energy Regulatory Commission

Combined Notice of Filings #1

Take notice that the Commission received the following electric rate filings:

Docket Numbers: ER11-4070-003.

Applicants: RITELine Illinois, LLC, RITELine Indiana, LLC.

Description: RITELine IN 20120217 Errata to be effective 10/17/2011.

Filed Date: 2/17/12.

Accession Number: 20120217-5157.

Comments Due: 5 p.m. ET 3/9/12.

Docket Numbers: ER12-610-001.

Applicants: Shiloh III Lessee, LLC.

Description: Shiloh III Lessee MBR Compliance Filing to be effective 2/16/2012.

Filed Date: 2/17/12.

Accession Number: 20120217-5142.

Comments Due: 5 p.m. ET 3/9/12.

Docket Numbers: ER12-676-001.

Applicants: Perrin Ranch Wind, LLC.

Description: Perrin Ranch Wind, LLC Second Amendment to MBR Application to be effective 1/1/2012.

Filed Date: 2/17/12.

Accession Number: 20120217-5153.

Comments Due: 5 p.m. ET 3/9/12.

Docket Numbers: ER12-775-000.

Applicants: CPV Cimarron Renewable Energy Company, LLC.

Description: Supplemental Information with respect to CPV Cimarron Renewable Energy Company, LLC's MBR Application.

Filed Date: 2/9/12.

Accession Number: 20120209-5171.

Comments Due: 5 p.m. ET 2/24/12.

Docket Numbers: ER12-1116-000.

Applicants: Cleco Power LLC, Cleco Evangeline LLC.

Description: Joint Application of Cleco Power LLC and Cleco Evangeline LLC under section 205 of the Federal Power Act requesting authorization of a three-year power purchase agreement between the Applicants.

Filed Date: 2/16/12.

Accession Number: 20120217-0211.

Comments Due: 5 p.m. ET 3/8/12.

Docket Numbers: ER12-1121-000.

Applicants: IEP Power Marketing LLC.

Description: MBR Refile to be effective 2/20/2012.

Filed Date: 2/17/12.

Accession Number: 20120217-5133.

Comments Due: 5 p.m. ET 3/9/12.

Take notice that the Commission received the following qualifying facility filings:

Docket Numbers: QF12-234-000.

Applicants: Chevron U.S.A. Inc.

Description: Chevron U.S.A. Inc. submits FERC Form 556—Notice of Certification of Qualifying Facility Status.

Filed Date: 2/16/12.

Accession Number: 20120216-5210.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2012.
Nathaniel J. Davis, Sr.,
Deputy Secretary.

[FR Doc. 2012-4793 Filed 2-28-12; 8:45 am]

BILLING CODE 6717-01-P